DEPARTMENT OF STATE

[Public Notice 11377]

60-Day Notice of Proposed Information Collection: Foreign Service Officer Test Registration Form

ACTION: Notice of request for public comment.

SUMMARY: The Department of State is seeking Office of Management and Budget (OMB) approval for the information collection described below. In accordance with the Paperwork Reduction Act of 1995, we are requesting comments on this collection from all interested individuals and organizations. The purpose of this notice is to allow 60 days for public comment preceding submission of the collection to OMB.

DATES: The Department will accept comments from the public up to May 17, 2021.

ADDRESSES: You may submit comments by any of the following methods:

• Web: Persons with access to the internet may comment on this notice by going to www.Regulations.gov. You can search for the document by entering “Docket Number: DOS-2021-0005” in the Search field. Then click the “Comment Now” button and complete the comment form.

• Email: FSOTQuestions@state.gov.

• Regular Mail: Send written comments to: Board of Examiners for the Foreign Service, FSOT Registration Form Comments Department of State SA-1, H-518. 2401 E Street NW, Washington, DC 20522.

• Fax: (202) 736-9190, Attn: FSOT Registration Form Comments.

You must include the DS form number (if applicable), information collection title, and the OMB control number in any correspondence.

FOR FURTHER INFORMATION CONTACT: Direct requests for additional information regarding the collection listed in this notice, including requests for copies of the proposed collection instrument and supporting documents, to Board of Examiners for the Foreign Service, Department of State SA-1, H-518. 2401 E Street NW, Washington, DC 20522.

SUPPLEMENTARY INFORMATION:

• Title of Information Collection: Registration for the Foreign Service Officer Test.

• OMB Control Number: 1405-0008.

• Type of Request: Extension of a Currently Approved Collection.

• Originating Office: Bureau of Human Resources, Board of Examiners.

• Form Number: DS-1998E.

• Respondents: Registrants for the Foreign Service Officer Test.

• Estimated Number of Respondents: 12,000.

• Estimated Number of Responses: 12,000.

• Average Time per Response: 2 hours.

• Total Estimated Burden Time: 24,000 hours.

• Frequency: Annually.

• Obligation to Respond: Required to Obtain or Retain a Benefit.

We are soliciting public comments to permit the Department to:

• Evaluate whether the proposed information collection is necessary for the proper functions of the Department.

• Evaluate the accuracy of our estimate of the time and cost burden for this proposed collection, including the validity of the methodology and assumptions used.

• Enhance the quality, utility, and clarity of the information to be collected.

• Minimize the reporting burden on those who are to respond, including the use of automated collection techniques or other forms of information technology.

Please note that comments submitted in response to this Notice are public record. Before including any detailed personal information, you should be aware that your comments as submitted, including your personal information, will be available for public review.

Abstract of Proposed Collection

Individuals registering for the Foreign Service Officer Test will complete a Registration Form, asking for their name, contact information, ethnicity, education and work history, and military experience. The information will be used to prepare and issue admission to the Foreign Service Officer Test, to provide data useful for improving future tests, and to conduct research studies based on the test results.

Methodology

The registration process, which includes concurrent application submission and seat selection, opens approximately four (4) weeks prior to each testing window. To register, individuals go to pearsonvue.com/fsot/ during the four-week period prior to a specific testing window to create an account, submit completed eligibility verification and application forms, and select a location and seat for the specific test date.

Kevin E. Bryant,
Deputy Director, Office of Directives Management, Department of State.

[FR Doc. 2021-05500 Filed 3-16-21; 8:45 am]

BILLING CODE 4710-15-P